DEPARTMENT OF ENERGY

Federal Energy Regulatory Commission

Combined Notice of Filings #1

Take notice that the Commission received the following exempt wholesale generator filings:

Docket Numbers: EG18-50-000.

Applicants: Victoria City Power LLC.

Description: Notice of Self-Certification of Exempt Wholesale Generator Status of Victoria City Power LLC.

Filed Date: 3/12/18.

Accession Number: 20180312-5139.

Comments Due: 5 p.m. ET 4/2/18.

Docket Numbers: EG18-51-000.

Applicants: Victoria Port Power LLC.

Description: Notice of Self-Certification of Exempt Wholesale Generator Status of Victoria Port Power LLC.

Filed Date: 3/12/18.

Accession Number: 20180312-5142.

Comments Due: 5 p.m. ET 4/2/18.

Take notice that the Commission received the following electric rate filings:

Docket Numbers: ER10-1338-002.

Applicants: Southern Indiana Gas and Electric Company, Inc.

Description: Supplement to December 28, 2017 Triennial Market Based Rates Update in Central Region of Southern Indiana Gas and Electric Company, Inc.

Filed Date: 3/9/18.

Accession Number: 20180309-5177.

Comments Due: 5 p.m. ET 3/30/18.

Docket Numbers: ER18-374-001.

Applicants: Southwest Power Pool, Inc.

Description: Tariff Amendment: Deficiency Response in ER18-374—Attachment Z2 Tariff Revisions to be effective 2/1/2018.

Filed Date: 3/5/18.

Accession Number: 20180302-5000.

Comments Due: 5 p.m. ET 3/26/18.

Docket Numbers: ER18-974-000.

Applicants: NTE Carolinas, LLC.

Description: Supplement to March 7, 2018 NTE Carolinas, LLC tariff (Attachment F).

Filed Date: 3/8/18.

Accession Number: 20180308-5090.

Comments Due: 5 p.m. ET 3/29/18.

Docket Numbers: ER18-987-000.

Applicants: Pacific Gas and Electric Company.

Description: Tariff Cancellation: Termination of LGIA with Regents of the UC (SA 344) to be effective 2/21/2018.

Filed Date: 3/9/18.

Accession Number: 20180309-5167.

Comments Due: 5 p.m. ET 3/30/18.

Docket Numbers: ER18-988-000.

Applicants: PJM Interconnection, L.L.C.

Description: § 205(d) Rate Filing: Revisions to OATT and RAA RE: Incremental Auction Process to be effective 5/8/2018.

Filed Date: 3/9/18.

Accession Number: 20180309-5171.

Comments Due: 5 p.m. ET 3/30/18.

Take notice that the Commission received the following foreign utility company status filings:

Docket Numbers: FC18-3-000.

Applicants: I Squared Capital.

Description: FC of I Squared Capital Notification of Self-Certification of Foreign Utility Company Status.

Filed Date: 3/9/18.

Accession Number: 20180309-5179.

Comments Due: 5 p.m. ET 3/30/18.

Take notice that the Commission received the following electric reliability filings:

Docket Numbers: RD18-1-000.

Applicants: North American Electric Reliability Corporation, Western Electricity Coordinating Council.

Description: Joint Petition of the North American Electric Reliability Corporation and Western Electricity Coordinating Council for Approval of Retirement of Regional Reliability Standard VAR-002-WECC-2.

Filed Date: 3/7/18.

Accession Number: 20180307-5161.

Comments Due: 5 p.m. ET 4/11/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 12, 2018.
Kimberly D. Bose,
Secretary.

[FR Doc. 2018-05488 Filed 3-16-18; 8:45 am]

BILLING CODE 6717-01-P